NATIONAL SCIENCE FOUNDATION

Request for Information: National Ocean Biodiversity Strategy

AGENCY: National Science Foundation.

ACTION: Notice of request for information.

SUMMARY: The National Science Foundation, on behalf of the National Science and Technology Council Subcommittee on Ocean Science and Technology (SOST), requests input from all interested parties to inform the development of a National Ocean Biodiversity Strategy (Strategy), covering the genetic lineages, species, habitats, and ecosystems of United States (U.S.) ocean, coastal, and Great Lakes waters. The Strategy will strengthen the knowledge foundation and coordination on which federal agencies and other parties can align priorities and investments toward more cost-effective and successful solutions to the increasing challenges that require information on biodiversity and living resources. The Strategy will align research and monitoring on ocean life for safe and sustainable management, conservation, development, and climate solutions; and improve delivery of biodiversity information to support wise management and the growing ocean economy. Through this request for information (RFI), SOST seeks input on the foundational elements of a Strategy for delivering needed knowledge and implementing effective stewardship of ocean life. Those elements will include actions federal agencies should take to collect, coordinate, and deliver information for policy, investment, development, and management, to better align ocean biodiversity investments and policy with societal needs for both use and protection of living resources, ensuring benefits to society across sectors and from local to international levels.

DATES: Responses are due by 11:59 p.m. eastern time on February 28, 2024. Responses received after this deadline may not be taken into consideration.

ADDRESSES: Interested individuals and organizations should submit comments electronically to rfi-marinebiodiversity@nsf.gov and include “RFI: Public Comment on the National Ocean Biodiversity Strategy” in the subject line of the message. Submissions should be machine readable in PDF or Word format and should not be locked or password protected. All submissions must be in English.

Instructions: Response to this RFI is voluntary. Each individual or organization is requested to submit only one response. Commenters can respond to one or many of the questions described below. Submissions are suggested to not exceed the equivalent of five (5) pages in 12 point or larger font. Submissions should clearly indicate which questions are being addressed. Responses should include the name of the person(s) or organization(s) filing the response. Responses containing references, studies, research, and other empirical data that are not widely published should include copies of or electronic links to the referenced materials. Responses containing profanity, vulgarity, threats, or other inappropriate language or content will not be considered.

SOST agencies may post responses to the RFI, without change, on their websites and may use the information received as they see fit. NSF therefore requests that no business proprietary information, copyrighted information, or personally identifiable information be submitted in response to the RFI. The U.S. Government will not pay for the responsible preparation or for the use of any information contained in the response.

FOR FURTHER INFORMATION CONTACT: For further information, please contact Gabrielle Canonico, National Oceanic and Atmospheric Administration, gabrielle.canonico@noaa.gov, telephone: (240) 533-9452, and/or Emmett Duffy, Smithsonian Institution, DuffyE@si.edu.

SUPPLEMENTARY INFORMATION:

Background

People are an integral part of nature and vice versa. Even in the continental heartland, our lives, livelihoods, health, and identities depend on the ocean's biodiversity, meaning the variety of life in all its aspects—species, genetic lineages, habitats, and associated ecosystems and interactions—from the sea surface to the deep ocean, the coasts, and the Great Lakes, and from microbes to whales. These living resources provide our food, clean air and water, a favorable climate, recreational and cultural benefits, and critical resources and economic opportunities. Indeed the U.S. ocean economy supports 2.4 million jobs across multiple sectors including fishing, tourism, shipping, and energy generation, which contributed $397 billion to the U.S. gross domestic product in 2019. Much of that economic engine is driven by living organisms.

Our natural heritage, and the ways of life that it supports, are in crisis. A comprehensive analysis reports that around 1 million species worldwide face extinction, many within decades, unless aggressive action is taken to reduce drivers of biodiversity loss in the near future. The biodiversity crisis is closely intertwined with the ongoing crises of climate change and inequity among people, and it is increasingly clear that these challenges must be approached together to reach lasting, just solutions that support human health, economies, national security, and other domestic and global challenges. To address them we need biological intelligence: trusted, accessible, and scientifically rigorous inventories and knowledge of ocean species and habitats, their interactions, and the ecosystem functions and services to people that they support.

That knowledge will come from long-term monitoring of biodiversity and associated environmental drivers and conditions, strategically located across the nation's expansive marine territory. These activities are critical to the ability of managers, rights holders, and resource users to make decisions that effectively steward uses of the ocean, track change in its vital signs, design effective climate solutions, and grow the ocean economy. But we are far from that goal. Information on ocean life and ecosystems is currently collected by many parties using a wide range of methods; the data are heterogeneous, generally not coordinated, and often not shared. Resulting information products are routinely created without engaging users `on the ground' and with poor understanding of their needs for actionable information. This lack of coordination and interoperability wastes limited resources and harms our ability to effectively sustain multiple uses of a healthy ocean. As a result, relevant information about many aspects of ocean life and ecosystem services is unavailable or inaccessible.

The Strategy will address these challenges by facilitating, streamlining, and coordinating the delivery of knowledge on ocean life and ecosystems to develop ocean spaces sustainably, including advancing conservation plans and decision processes jointly by co-design with resource users and rights-holders. It will advance capacity to forecast changes in ocean life and the ecosystem services it provides by ensuring that data are comparable and shared across sectors (government, non-governmental organizations, private, academic) and regions (subnational, national, international), much as weather data are shared across international meteorological organizations to enable nowcasts and accurate forecasts that are widely used on a daily basis.

Scoping and Developing a National Ocean Biodiversity Strategy

The SOST is developing this Strategy because the linked climate, biodiversity, and equity crises have created an urgent need for biological information that can enable coordinated responses and solutions. Equally important, leveraging the exponentially growing quantity and variety of ocean biodiversity information for human well-being requires integration with biogeochemistry, physics, geology, and social and economic data to locate both people and the rest of nature in integrated knowledge systems that support effective, just, and sustainable development and conservation.

The U.S. has one of the largest exclusive economic zones in the world, with a comparable wealth of biodiversity and living resources. Collecting and delivering the necessary biodiversity knowledge at this national scale is an ambitious goal that requires rapid, large-scale, cross-sectoral advances in facilitating integration of communities, sectors, and information types. It must engage all Americans, including Tribal Nations, Indigenous communities, and local communities. Delivery of information needs to be in forms tailored to decision contexts, informed by and readily understandable by those interested in using the information.

Rapidly advancing technology is one road to reaching that ambition. Emerging technologies now enable biomolecular classification of organisms, tracking of animal migration and behavior through tagging, acoustics, imaging, and remote sensing across previously impossible scales of geography and time. The resulting timely, accessible, and accurate information on ocean life is fundamental for our social and economic security at all levels of governance. It is also fundamental to maintain international leadership as needs for food, water, and other resources continue to grow.

Achieving these goals requires better coordinating data and information sharing and resulting actions among federal agencies, states, tribal communities, academic, and private sector initiatives. The Strategy aims to provide the critical science, data, and knowledge essential to guide long-term conservation based on best evidence, and to make it more accessible to support a collaborative and inclusive approach. The Strategy will identify information users and engage with them to understand what information they find useful, and in what forms. The Strategy will support consistent and reliable assembly and management of ocean biodiversity data that is necessary, but currently lacking, for ongoing federal activities, such as the first National Nature Assessment, Natural Capital Accounting efforts, the National Strategy for a Sustainable Ocean Economy, advancing Nature-Based Solutions, development of a National eDNA Strategy, and the Ocean Climate Action Plan, consistent with FAIR and CARE principles.

Developing and implementing the National Ocean Biodiversity Strategy will advance more cost-effective, strategic, nimble, and equitable management of the nation's living marine resources and cultural heritage. Importantly, the Strategy will support solutions to the intertwined equity crisis by engaging and supporting Indigenous Knowledge and prioritizing cross-sector user needs from local to national levels.

The Strategy also seeks to strengthen and increase visibility of U.S. leadership in global initiatives focused on solutions to the climate and biodiversity crises. Specifically, the High Level Panel for a Sustainable Ocean Economy acknowledged the pressing need for national contributions to a globally coordinated effort to collect information on ocean biodiversity and on extinction risk, and highlighted the need to support long-term biodiversity monitoring. Similarly, U.S. leadership of a number of programs and activities within the UN Decade of Ocean Science for Sustainable Development supports emerging communities of practice and the development of harmonized, standards-based approaches to address this need directly.

Themes and Questions To Inform the Development of the Strategy

Respondents may provide information for one or as many topics below as they choose. Submissions should clearly indicate which questions are being addressed. The Strategy will be developed by an interagency working group under SOST that is co-led by the National Oceanic and Atmospheric Administration, the National Aeronautics and Space Administration, and the Bureau of Ocean Energy Management, in partnership with the Smithsonian Institution and other federal agencies. The working group seeks input from Tribal Nations, local, State, federal and Territorial governments, the private sector, academia, non-governmental organizations, a wide range of stakeholders, and the public on high-level goals and how to achieve them in the following areas:

Coordination and Priority Setting

• What are the most pressing topics and considerations for the National Ocean Biodiversity Strategy to address?

• What actions can federal agencies take to facilitate the harmonization of ocean biodiversity investments and policy to ensure benefits across all sectors?

Science, Technology, and Information

• What are the priority needs and most promising approaches in science and technology to provide useful information on ocean biodiversity (species, genetic lineages, habitats, ecosystems) and the ecosystem processes and services they support?

• How can we best align the efforts of knowledge holders with the needs of knowledge users?

• How can ocean biodiversity data be made more usable and available? Which existing mechanisms or repositories could be leveraged?

Capacity Building and Community Engagement

• How could public and private partnerships be developed or enhanced to explore and characterize ocean life, which existing partnerships could be leveraged, and how might opportunities for participation by diverse parties in such partnerships be maximized?

• What are the key needs for training and education to improve broad knowledge and stewardship of ocean life?

• How could the public be engaged in developing and implementing improved understanding and stewardship of ocean life?

• Is there anything else you would like to be considered in the development of the National Ocean Biodiversity Strategy?

Dated: November 6, 2023.
Suzanne H. Plimpton,
Reports Clearance Officer, National Science Foundation.

[FR Doc. 2023-24839 Filed 11-8-23; 8:45 am]

BILLING CODE 7555-01-P